DEPARTMENT OF COMMERCE

National Oceanic and Atmospheric Administration

RIN 0648-XY40

Pacific Fishery Management Council; Tule Chinook Workgroup Meeting

AGENCY: National Marine Fisheries Service (NMFS), National Oceanic and Atmospheric Administration (NOAA), Commerce.

ACTION: Notice of public meeting.

SUMMARY: The Pacific Fishery Management Council's (Pacific Council) Tule Chinook Workgroup (TCW) will hold a meeting to discuss issues and make assignments relative to developing an abundance-based harvest management approach for Columbia River natural tule chinook . This meeting of the TCW is open to the public.

DATES: The meeting will be held Thursday, September 30, 2010, from 9 a.m. to 1 p.m.

ADDRESSES: The meeting will be held at the Pacific Council Office, Large Conference Room, 7700 NE Ambassador Place, Suite 101, Portland, OR 97220-1384.

FOR FURTHER INFORMATION CONTACT: Chuck Tracy, Salmon Management Staff Officer, Pacific Fishery Management Council, telephone: 503-820-2280.

SUPPLEMENTARY INFORMATION: This first meeting of the TCW will be primarily an organizational meeting. Eventually, TCW work products will be reviewed by the Council, and if approved, would be submitted to NMFS for possible consideration in the next Lower Columbia River tule biological opinion for ocean salmon seasons in 2012 and beyond, and distributed to State and Federal recovery planning processes. In the event a usable approach emerges from this process, the Council may consider an FMP amendment process beginning after November 2011 to adopt the approach as a formal conservation objective in the Salmon FMP.

Although nonemergency issues not contained in the meeting agenda may come before the TCW for discussion, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at 503-820-2280 at least five days prior to the meeting date.

Dated: August 20, 2010.
William D. Chappell,
Acting Director, Office of Sustainable Fisheries, National Marine Fisheries Service.

[FR Doc. 2010-21081 Filed 8-24-10; 8:45 am]

BILLING CODE 3510-22-S